DEPARTMENT OF LABOR

Employment and Training Administration

[TA-W-59,583]

Nibco, Inc., South Glens Falls, NY; Notice of Termination of Investigation

Pursuant to section 221 of the Trade Act of 1974, as amended, an investigation was initiated on June 20, 2006, in response to a worker petition filed by a company official on behalf of workers at NIBCO, Inc., South Glens Falls, New York.

The petitioner has requested that the petition be withdrawn. Consequently, the investigation has been terminated.

Signed at Washington, DC, this 11th day of July 2006.
Elliott S. Kushner,
Certifying Officer, Division of Trade Adjustment Assistance.

[FR Doc. E6-12204 Filed 7-28-06; 8:45 am]

BILLING CODE 4510-30-P